DEPARTMENT OF COMMERCE

National Oceanic and Atmospheric Administration

RIN 0648-XA713

Endangered Species; File No. 16436-01

AGENCY: National Marine Fisheries Service (NMFS), National Oceanic and Atmospheric Administration (NOAA), Commerce.

ACTION: Notice; receipt of application for permit modification.

SUMMARY: Notice is hereby given that the New York State Department of Environmental Conservation, 21 South Putt Corners Road, New Paltz, NY 12561 [Kathryn Hattala: Responsible Party], has applied in due form for a permit modification to take Atlantic sturgeon (Acipenser oxyrinchus oxyrinchus) and shortnose sturgeon (Acipenser brevirostrum) for purposes of scientific research.

DATES: Written, telefaxed, or email comments must be received on or before June 9, 2014.

ADDRESSES: The application and related documents are available for review by selecting “Records Open for Public Comment” from the Features box on the Applications and Permits for Protected Species (APPS) home page, https://apps.nmfs.noaa.gov, and then selecting File No. 16436-01 from the list of available applications.

These documents are also available upon written request or by appointment in the following office:

• Permits and Conservation Division, Office of Protected Resources, NMFS, 1315 East-West Highway, Room 13705, Silver Spring, MD 20910; phone (301)427-8401; fax (301)713-0376.

Written comments on either application should be submitted to the Chief, Permits and Conservation Division

• By email to NMFS.Pr1Comments@noaa.gov (include the File No. in the subject line of the email);

• By facsimile to (301)713-0376; or

• At the address listed above.

Those individuals requesting a public hearing should submit a written request to the Chief, Permits and Conservation Division at the address listed above. The request should set forth the specific reasons why a hearing on the application would be appropriate.

FOR FURTHER INFORMATION CONTACT: Malcolm Mohead at (301)427-8401.

SUPPLEMENTARY INFORMATION: The subject permit modification is requested under the authority of the Endangered Species Act of 1973, as amended (ESA; 16 U.S.C. 1531 et seq.), and the regulations governing the taking, importing, and exporting of endangered and threatened species (50 CFR parts 222-226).

Permit No. 16436 was issued April 6, 2012 (77 FR 21754) to capture Atlantic sturgeon life stages in the Hudson River estuary to assess juvenile abundance, characterize the adult spawning stock, and generate population estimates. Atlantic sturgeon are authorized to be captured with gill nets, trammel nets, and trawls; measured, weighed, genetic tissue sampled, fin ray clipped for aging; PIT tagged and Floy tagged, internally and externally acoustic tagged; anesthetized with up to 150 ppm MS-222; and gastric lavaged. The Permit Holder now proposes to consolidate takes of shortnose sturgeon, currently authorized separately in Permit No. 16439 with the takes of Atlantic sturgeon authorized in Permit No. 16436. The shortnose sturgeon Permit No. 16439 would be terminated upon issuance of the modification to Permit No. 16436. The Permit Holder also requests increasing the numbers and procedures for taking both Atlantic and shortnose sturgeon to meet further objectives, including understanding the impacts of both species to the (1) construction of the Tappan Zee Bridge, (2) laying of high voltage cable in the Hudson River by the Champlain Hudson Power Express project, and (3) impacts of high loads of contaminants identified in the Hudson River. New methods introduced in the modification would include contaminant research, incorporating laparoscopic liver biopsy, and anesthetizing animals with 250 mg/l MS-222 and electro-narcosis. A total of three incidental mortalities of shortnose and Atlantic sturgeon are anticipated annually as a result of increased research activity. The modification would be valid through the expiration date of the original Permit No. 16436 on April 5, 2017.

Dated: May 5, 2014.
Tammy C. Adams,
Acting Chief, Permits and Conservation Division, Office of Protected Resources, National Marine Fisheries Service.

[FR Doc. 2014-10655 Filed 5-8-14; 8:45 am]

BILLING CODE 3510-22-P